DEPARTMENT OF TRANSPORTATION

Federal Aviation Administration

Agency Information Collection Activities: Requests for Comments; Clearance of Renewed Approval of Information Collection: Commercial Air Tour Operator Reports

AGENCY: Federal Aviation Administration (FAA), DOT.

ACTION: Notice and request for comments.

SUMMARY: In accordance with the Paperwork Reduction Act of 1995, FAA invites public comments about our intention to request the Office of Management and Budget (OMB) approval to renew for three-year clearance an information collection that has been granted emergency clearance. The Federal Register Notice with a 60-day comment period soliciting comments on the following collection of information was published on May 9, 2012, vol. 77, no. 90, page 27271-27272. The commercial air tour operational data provided to the FAA and NPS will be used by the agencies as background information useful in the development of air tour management plans and voluntary agreements for purposes of meeting the mandate of the National Parks Air Tour Management Act (NPATMA) of 2000.

DATES: Written comments should be submitted by August 20, 2012.

FOR FURTHER INFORMATION CONTACT: Kathy DePaepe at (405) 954-9362, or by email at: Kathy.A.DePaepe@faa.gov.

SUPPLEMENTARY INFORMATION:

OMB Control Number: 2120-0750.

Title: Commercial Air Tour Operator Reports.

Form Numbers: There are no FAA forms associated with this collection.

Type of Review: Request for three-year clearance of an information collection that has been granted short-term emergency clearance.

Background: The FAA Modernization and Reform Act of 2012 included amendments to the National Parks Air Tour Management Act (NPATMA) of 2000. One of these amendments requires commercial air tour operators conducting tours over national park units to begin reporting on the number of operations they conduct and any such other information prescribed by the FAA Administrator and the Director of the National Park Service (NPS). The Administrator and Director have 90 days from date of enactment of the FAA Modernization and Reform Act of 2012 (enacted February 14, 2012) to jointly issue an initial request for reports and the specified frequency and format of these reports. OMB granted emergency clearance of this information collection on April 25, 2012, expiring on October 31, 2012.

Respondents: Approximately 75 air tour operators.

Frequency: Information is collected quarterly, or annually for park units with fewer than 50 tours per year.

Estimated Average Burden per Response: 11.66 hours.

Estimated Total Annual Burden: 3,300 hours.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW., Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC on July 12, 2012.
Albert R. Spence,
FAA Assistant Information Collection Clearance Officer, IT Enterprises Business Services Division, AES-200.

[FR Doc. 2012-17612 Filed 7-18-12; 8:45 am]

BILLING CODE 4910-13-P